DEPARTMENT OF LABOR

Employment and Training Administration

[TA-W-51,325]

Powerwave Technologies, Including Temporary Workers of Volt Services Group, Santa Ana, CA; Amended Certification Regarding Eligibility To Apply for Worker Adjustment Assistance

In accordance with section 223 of the Trade Act of 1974 (19 U.S.C. 2273) the Department of Labor issued a Certification of Eligibility to Apply for Worker Adjustment Assistance on April 17, 2003, applicable to workers of Powerwave Technologies, located in Santa Ana, California. The notice was published in the Federal Register on May 7, 2003 (68 FR 24503).

At the request of a petitioner, the Department reviewed the certification for workers of the subject firm. The workers of Powerwave Technologies, Santa Ana, California, produce power amplifiers for the telephone industry. New information shows that the subject firm utilized some workers of Volt Services Group to produce power amplifiers at the Santa Ana facility.

It is the Department's intent to include all workers of Powerwave Technologies, Santa Ana, California affected by increased imports. Therefore, the Department is amending the certification to include temporary workers of Volt Services Group producing power amplifiers at Powerwave Technologies, Santa Ana, California.

The amended notice applicable to TA-W-51,325 is hereby issued as follows:

“All workers of Powerwave Technologies, Santa Ana, California, and temporary workers of Volt Services Group producing power amplifiers at Powerwave Technologies, Santa Ana, California, who became totally or partially separated from employment on or after March 13, 2002, through April 17, 2005, are eligible to apply for adjustment assistance under section 223 of the Trade Act of 1974.”

Signed at Washington, DC, this 3rd day of December, 2003.
Linda G. Poole,
Certifying Officer, Division of Trade Adjustment Assistance.

[FR Doc. 04-1526 Filed 1-23-04; 8:45 am]

BILLING CODE 4510-30-P